DEPARTMENT OF THE INTERIOR

Office of the Secretary

Invasive Species Advisory Committee

AGENCY: Office of the Secretary, Interior.

ACTION: Notice of meeting of the Invasive Species Advisory Committee.

SUMMARY: Pursuant to the provisions of the Federal Advisory Committee Act, notice is hereby given of meeting of the Invasive Species Advisory Committee. The purpose of the Advisory Committee is to provide advice to the Council, as authorized by Executive Order 13112, on a broad array of issues related to preventing the introduction of invasive species and providing for their control and minimizing the economic, ecological, and human health impacts that invasive species cause. The meeting on October 24 will be a joint meeting of the Advisory Committee and various Federal Agency Officials. The meeting on October 25 will consist of the Advisory Committee only. Both meetings will be open to the public. Attendance will be limited to space available.

DATES: Meeting of Invasive Species Advisory Committee and Federal Agencies: 8:00 a.m.-4:15 p.m., Tuesday October 24, 2000; Meeting of Advisory Committee only: 8:30 a.m.-3:00 p.m., Wednesday, October 25, 2000.

ADDRESSES: U.S. Fish and Wildlife Service, National Conservation Training Center, Shepherdstown, WV. The October 24th meeting will be held in the Auditorium. The October 25th meeting will be held in the Instructional West Building, Room 170.

FOR FURTHER INFORMATION CONTACT: Kelsey Passé, National Invasive Species Council Program Analyst; E-mail: kelsey_passe@ios.doi.gov; Phone: (202) 208-6336; Fax: (202) 208-1526.

Dated: October 16, 2000.
Lori Williams,
Executive Director, National Invasive Species Council.

[FR Doc. 00-26927 Filed 10-17-00; 8:45 am]

BILLING CODE 4310-RK-P